DEPARTMENT OF COMMERCE

International Trade Administration

[A-475-818]

Certain Pasta From Italy: Notice of Final Results of Antidumping Duty Changed Circumstances Review

AGENCY: Enforcement and Compliance, International Trade Administration, Department of Commerce.

SUMMARY: On May 16, 2014, the Department of Commerce (“Department”) published the preliminary results of the changed circumstances review of the antidumping duty order on certain pasta from Italy and preliminarily determined that Delverde Industrie Ailimentari S.p.A. (“Delverde”) was not the successor-in-interest to Del Verde S.p.A., a company excluded from the order.¹ We received comments from interested parties. Based on our analysis, for the final results, the Department continues to find that Delverde is not the successor-in-interest to Del Verde S.p.A.

¹ See Certain Pasta From Italy: Notice of Preliminary Results of Antidumping Duty Changed Circumstances Review, 79 FR 28481 (May 16, 2014) (“Preliminary Results”).

DATES: Effective Date: September 19, 2014.

FOR FURTHER INFORMATION CONTACT: James Terpstra, Office III, AD/CVD Operations, Enforcement and Compliance, International Trade Administration, U.S. Department of Commerce, 14th and Constitution Avenue NW., Washington, DC 20230; telephone: (202) 482-3965.

Background

On July 24, 1996, the Department published in the Federal Register the antidumping duty order on pasta from Italy.² Pursuant to a decision by the Court of International Trade, the Department determined that Del Verde S.p.A. had a de minimis dumping margin and should be excluded from the order.³

² See Notice of Antidumping Duty Order and Amended Final Determination of Sales at Less Than Fair Value: Certain Pasta From Italy, 61 FR 38547 (July 24, 1996); see also Notice of Second Amendment to the Final Determination and Antidumping Duty Order: Certain Pasta From Italy; 61 FR 42231 (August 14, 1996).

³ See Notice of Amendment of Final Determination of Sales at Less Than Fair Value Pursuant to Court Decision and Revocation in Part: Certain Pasta From Italy, 66 FR 65889 (December 21, 2001).

On July 18, 2012, Delverde requested a changed circumstances review. On August 10, 2012, the Department initiated this review.⁴ On May 16, 2014, the Department published in the Federal Register a preliminary finding that Delverde was not the successor-in-interest to Del Verde S.p.A.⁵

⁴ See Certain Pasta From Italy: Notice of Initiation of the Antidumping Duty Changed Circumstances Review, 77 FR 47816 (May 10, 2012) (“Initiation Notice”).

⁵ See Preliminary Results.

On May 27, 2014, Delverde submitted a case brief.⁶ On June 9, 2014, Petitioners submitted a rebuttal brief.⁷ The Department extended the deadline for the final results until August 14, 2014 on June 23, 2014.⁸

⁶ See Delverde's May 27, 2014 Case Brief.

⁷ See Petitioner's June 9, 2014 Rebuttal Brief.

⁸ See June 23, 2014 Letter to Delverde.

Scope of the Order

Imports covered by this order are shipments of certain non-egg dry pasta in packages of five pounds four ounces or less, whether or not enriched or fortified or containing milk or other optional ingredients such as chopped vegetables, vegetable purees, milk, gluten, diastasis, vitamins, coloring and flavorings, and up to two percent egg white. The pasta covered by this scope is typically sold in the retail market, in fiberboard or cardboard cartons, or polyethylene or polypropylene bags of varying dimensions.

Excluded from the scope of this order are refrigerated, frozen, or canned pastas, as well all forms of egg pasta, with the exception of non-egg dry pasta containing up to two percent egg white. Also excluded are imports of organic pasta from Italy that are certified by a European Union (“EU”) authorized body and accompanied by a National Organic Program import certificate for organic products.⁹ Effective July 1, 2008, gluten free pasta is also excluded from this order.¹⁰

⁹ On October 10, 2012, the Department revised the “Scope of the Order” to recognize the EU-authorized Italian agents for purposes of the antidumping and countervailing duty orders on pasta from Italy. See Memorandum from Yasmin Nair to Susan Kuhbach, titled “Recognition of EU Organic Certifying Agents for Certifying Organic Pasta From Italy,” dated October 10, 2012, which is on file in the Department's Central Records Unit.

¹⁰ See Certain Pasta From Italy: Notice of Final Results of Antidumping Duty Changed Circumstances Review and Revocation, in Part, 74 FR 41120 (August 14, 2009).

The merchandise subject to this order is currently classifiable under items 1902.19.20 and 1901.90.9095 of the Harmonized Tariff Schedule of the United States (“HTSUS”). Although the HTSUS subheadings are provided for convenience and customs purposes, the written description of the merchandise subject to the order is dispositive.

Analysis of Comments Received

All issues raised in the case and rebuttal briefs by parties to this changed circumstances review are addressed in the Issues and Decision Memorandum, which is hereby adopted by this notice. A list of the issues which parties have raised, and to which we have responded in the Issues and Decision Memorandum, is attached to this notice as an Appendix.

The Issues and Decision Memorandum is a public document and is on file electronically via Enforcement and Compliance's Antidumping and Countervailing Duty Centralized Electronic Service System (“IA ACCESS”). Access to IA ACCESS is available to registered users at http://iaaccess.trade.gov and is available to all parties in the Central Records Unit, Room 7046 of the main Department of Commerce building. In addition, a complete version of the Issues and Decision Memorandum can be accessed directly at http://enforcement.trade.gov/frn/index.html. The paper copy and electronic version of the Issues and Decision Memorandum are identical in content.

Final Results of Changed Circumstances Review

For the Preliminary Results, the Department found that Delverde was not the successor-in-interest to Del Verde S.p.A. based on aspects of the bankruptcy of the company, changes in management, changes in supplier relationships, and changes in production facilities.¹¹ Based on our analysis of the comments received, the Department continues to find that Delverde is not the successor-in-interest to Del Verde S.p.A. and is not excluded from the order.¹² This determination will apply to all entries of the subject merchandise entered or withdrawn from warehouse, for consumption on or after the date of the publication of the final results.

¹¹ See Preliminary Results.

¹² See Certain Pasta From Italy: Notice of Final Results of 16th Antidumping Duty Administrative Review; 2001-2012, 79 FR 11409 (February 28, 2014), in which Delverde was assigned a company-specific cash deposit rate of 13.09 percent.

Notification

This notice serves as a reminder to parties subject to administrative protective orders (APOs) of their responsibility concerning the disposition of proprietary information disclosed under APO in accordance with 19 CFR 351.306. Timely written notification of the destruction of APO materials or conversion to judicial protective order is hereby requested. Failure to comply with the regulations and terms of an APO is a sanctionable violation.

This notice is published in accordance with sections 751(b)(1) and 777(i) of the Act and 19 CFR 351.216 and 351.221.

Date: September 12 2014.
Paul Piquado,
Assistant Secretary for Enforcement and Compliance.

APPENDIX

Summary

Background

Discussion of Interested Party Comments

Comment 1: The Purpose of the Changed Circumstances Review

Comment 2: The Significance of the Bankruptcy

Comment 3: Whether the Factors Relied on by the Department Support its Decision

Recommendation

[FR Doc. 2014-22410 Filed 9-18-14; 8:45 am]

BILLING CODE 3510-DS-P